DEPARTMENT OF TRANSPORTATION

Federal Aviation Administration

14 CFR Part 71

[Airspace Docket No. 00-AAL-17]

Revision of Class E Airspace; Iliamna, AK

AGENCY: Federal Aviation Administration (FAA), DOT.

ACTION: Final rule.

SUMMARY: This action revises Class E airspace at Iliamna, AK. The establishment of four new Area Navigation (RNAV) instrument approaches to runway (RWY) 7, RWY 25, RWY 17 and RWY 35 at Iliamna Airport, Iliamna, AK, made this action necessary. This rule provides adequate controlled airspace for aircraft flying Instrument Flight Rules (IFR) operations at at Iliamna, AK.

EFFECTIVE DATES: 0901 UTC, March 22, 2001.

FOR FURTHER INFORMATION CONTACT: Robert van Haastert, Operations Branch, Federal Aviation Administration, 222 West 7th Avenue, Box 14, Anchorage, AK 99513-7587; telephone number (907) 271-5863; fax: (907) 271-2850; email: Robert.ctr.van-Haastert@faa.gov. Internet address: http://www.alaska.faa.gov/at.

SUPPLEMENTARY INFORMATION:

History

On October 25, 2000, a proposal to amend part 71 of the Federal Aviation Regulations (14 CFR part 71) to revise the Class E airspace at Iliamna, AK, was published in the Federal Register (65 FR 63821). The proposal was necessary due to the establishment of four new RNAV instrument approaches to RWY 7, RWY 25, RWY 17, and RWY 35 at Iliamna, AK.

Interested parties were invited to participate in this rulemaking proceeding by submitting written comments on the proposal to the FAA. No public comments to the proposal were received, thus, the rule is adopted as written.

The area will be depicted on aeronautical charts for pilot reference. The coordinates for this airspace docket are based on North American Datum 83. The Class E airspace areas designated as surface areas are published in paragraph 6002 and the Class E airspace areas designated as 700/1200 foot transition areas are published in paragraph 6005 in FAA Order 7400.9H, Airspace Designations and Reporting Points, dated September 1, 2000, and effective September 16, 2000, which is incorporated by reference in 14 CFR 71.1. The Class E airspace designations listed in this document will be published subsequently in the Order.

The Rule

This amendment to 14 CFR part 71 revises the Class E airspace at Iliamna, AK, through the establishment of four new RNAV instrument approaches to RWY 7, RWY 25, RWY 17, and RWY 35 at Iliamna, AK. The intended effect of this proposal is to provide adequate controlled airspace for IFR operations at Iliamna, AK.

The FAA has determined that this proposed regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

The Proposed Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9H, Airspace Designations and Reporting Points, dated September 1, 2000, and effective September 16, 2000, is amended as follows:

* * * * *

Paragraph 6002 Class E airspace designated as surface areas.

* * * * *

AAL AK E2 Iliamna, AK [Revised]

Iliamna Airport, AK

(Lat. 59° 45′ 16″ N, long. 154° 54′ 39″ W)

Iliamna NDB

(Lat. 59° 44′ 53″ N, long. 154° 54′ 35″ W)

Within a 4-mile radius of the Iliamna Airport and within 2.5 miles east of the 189° bearing and 2.5 miles west of the 200° bearing from the Iliamna NDB extending from the 4-mile radius to 7.4 miles south of the airport. This Class E airspace area is effective during specific dates and times established in advance by a Notice to Airmen. The effective date and time will thereafter be continuously published in the Supplement Alaska (Airport/Facility Directory).

* * * * *

Paragraph 6005 Class E airspace extending upward from 700 feet or more above the surface of the earth.

* * * * *

AAL AK E5 Iliamna, AK [Revised]

Iliamna Airport, AK

(Lat. 59° 45′ 16″ N, long. 154° 54′ 39″ W)

Iliamna NDB

(Lat. 59° 44′ 53″ N, long. 154° 54′ 35″ W)

That airspace extending upward from 700 feet above the surface within a 6.4-mile radius of the Iliamna Airport and within 4 miles west and 8 miles east of the 200° bearing from the Iliamna NDB extending from the 6.4-mile radius to 16 miles south from the NDB; and that airspace extending from 1,200 feet above the surface within an area bounded by lat. 60° 14′ 00″ N long. 154° 54′ 00″ W, clockwise to lat. 59° 46′ 20″ N long. 153° 52′ 00″ W, to lat. 59° 43′ 00″ N long. 153° 00′ 00″ W, lat. 59° 33′ 00″ N long. 153° 00′ 00″ W, lat. 59° 28′ 00″ N long. 154° 13′ 00″ W, lat. 59° 18′ 00″ N long. 154° 04′ 00″ W, lat. 59° 11′ 00″ N long. 155° 17′ 00″ W, lat. 59° 32′ 00″ N long. 155° 31′ 00″ W, lat. 59° 41′ 00″ N long. 156° 35′ 00″ W, to the point of beginning.

* * * * *

Issued in Anchorage, AK, on December 19, 2000.
Anthony M. Wylie,
Acting Manager, Air Traffic Division, Alaskan Region.

[FR Doc. 00-33178 Filed 12-27-00; 8:45 am]

BILLING CODE 4910-13-P